DEPARTMENT OF THE TREASURY

Office of Foreign Assets Control

Additional Designations, Foreign Narcotics Kingpin Designation Act

AGENCY: Office of Foreign Assets Control, Treasury.

ACTION: Notice.

SUMMARY: The Treasury Department's Office of Foreign Assets Control (“OFAC”) is publishing the names of additional persons whose property and interests in property have been blocked pursuant to the Foreign Narcotics Kingpin Designation Act (21 U.S.C. 1901-1908, 8 U.S.C. 1182).

DATES: The designation by the Director of OFAC of the fifteen individuals identified in this notice pursuant to section 805(b) of the Kingpin Act is effective on November 1, 2007.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available on OFAC's Web site (http://www.treas.gov/ofac) or via facsimile through a 24-hour fax-on demand service, tel.: (202) 622-0077.

Background

The Foreign Narcotics Kingpin Designation Act (“Kingpin Act”) became law on December 3, 1999. The Kingpin Act establishes a program targeting the activities of significant foreign narcotics traffickers and their organizations on a worldwide basis. It provides a statutory framework for the President to impose sanctions against significant foreign narcotics traffickers and their organizations on a worldwide basis, with the objective of denying their businesses and agents access to the U.S. financial system and to the benefits of trade and transactions involving U.S. companies and individuals.

The Kingpin Act blocks all property and interests in property, subject to U.S. jurisdiction, owned or controlled by significant foreign narcotics traffickers as identified by the President. In addition, the Kingpin Act blocks the property and interests in property, subject to U.S. jurisdiction, of foreign persons designated by the Secretary of Treasury, in consultation with the Attorney General, the Director of Central Intelligence, the Director of the Federal Bureau of Investigation, the Administrator of the Drug Enforcement Administration, the Secretary of Defense, the Secretary of State, and the Secretary of Homeland Security who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On November 1, 2007, the Director of OFAC designated fifteen additional entities whose property and interests in property are blocked pursuant to section 805(b) of the Foreign Narcotics Kingpin Designation Act.

The list of additional designees follows:

Entities:

1. CABANA GUILLEN, Sixto Antonio, (a.k.a. “Domingo Bioho”); DOB 15 Jun 1955; POB Orihueca-Cienaga, Magdalena, Colombia; Cedula No. 19500634 (Colombia).

2. CABRERA DIAZ, Hermilo, (a.k.a. “Bertulfo”; a.k.a. CABRERA DIAZ, Ermilo); DOB 25 Nov 1941; POB Neiva, Huila, Colombia; Cedula No. 9680080 (Colombia).

3. CAICEDO COLORADO, Abelardo, (a.k.a. “Solis Almeida”); DOB 3 Mar 1960; POB Mercaderes, Cauca, Colombia.

4. CAMARGO, Norbei, (a.k.a. “James Patapalo”; a.k.a. “James Patamala”; a.k.a. CAMARGO, Norbey; a.k.a. TRIANA, Hermer; a.k.a. “Muerto Parado”); DOB 5 Aug 1965; POB Paujil, Caqueta, Colombia; Cedula No. 17702895 (Colombia).

5. CUEVAS CABRERA, Erminso, (a.k.a. “Mincho”); DOB 16 Sep 1960; POB El Paujil, Caqueta, Colombia; Cedula No. 96328518 (Colombia).

6. LEAL GARCIA, Ignacio, (a.k.a. “Camilo”; a.k.a. “Tuerto”); Cedula No. 96186610 (Colombia).

7. LOPEZ MENDEZ, Luis Eduardo, (a.k.a. “Efren Arboleda”; a.k.a. LOPEZ MENDEZ, Alfonso); Cedula No. 96329889 (Colombia).

8. MOLINA GONZALEZ, Jose Epinemio, (a.k.a. “Danilo Garcia”; a.k.a. MOLINA GONZALEZ, Jose Epimenio); DOB 18 Nov 1957; POB Incononzo, Tolima, Colombia.; Cedula No. TI. 57111-01681 (Colombia).

9. OLARTE LOMBANA, Alonso, (a.k.a. “Luis Eduardo Marin”; a.k.a. “Rafael Gutierrez”; a.k.a. GUZMAN FLOREZ, Reinel); DOB 7 Nov 1960; Alt DOB 11 Apr 1957; POB Bogota, Colombia; Alt. POB Natagaima, Tolima, Colombia; Cedula No. 18260876 (Colombia).

10. PASCUAS SANTOS, Miguel Angel, (a.k.a. “Sargento Pascuas”; a.k.a. “Humberto”); DOB 28 Apr 1952; POB Tello, Huila, Colombia; Cedula No. 12160124 (Colombia).

11. RODRIGUEZ MENDIETA, Jorge Enrique, (a.k.a. “Ivan Vargas”); DOB 15 Jan 1963; POB Giron, Santander, Colombia; Cedula No. 91223461 (Colombia).

12. ROPERO SUAREZ, Emiro del Carmen, (a.k.a. “Ruben Zamora”); DOB 2 Sep 1962; POB Municipio de Nueva Granada, Norte de Santander, Colombia; Cedula No. 13461523 (Colombia).

13. SANTANILLA BOTACHE, Miguel, (a.k.a. “Gentil Duarte”); DOB 10 Dec 1963; POB Florencia, Caqueta, Colombia; Cedula No. 93123586 (Colombia).

14. TORRES CUETER, Guillermo Enrique, (a.k.a. “Julian Conrado”); DOB 17 Aug 1954; POB Turbaco, Bolivar, Colombia; Cedula No. 9281858 (Colombia).

15. TRASLAVIÑA BENAVIDES, Erasmo, (a.k.a. “Ismardo Murcia Lozada”; a.k.a. “Jimmy Guerrero”; a.k.a. “Isnardo Murcia Lozada”); DOB 19 Jun 1958; POB Guacamayo, Santander, Colombia; Cedula No. 13642033 (Colombia).

Dated: November 1, 2007.
Adam J. Szubin,
Director, Office of Foreign Assets Control.

[FR Doc. E7-21909 Filed 11-7-07; 8:45 am]

BILLING CODE 4811-42-P